DEPARTMENT OF TRANSPORTATION

Federal Railroad Administration

[Docket No. FRA-2024-0002]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before March 25, 2024.

ADDRESSES: Written comments and recommendations for the proposed ICR should be submitted on regulations.gov to the docket, Docket No. FRA-2024 0002. All comments received will be posted without change to the docket, including any personal information provided. Please refer to the assigned OMB control number (2130-0589) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires.

Title: State Highway-Rail Grade Crossing Action Plans.

OMB Control Number: 2130-0589.

Abstract: Section 202 of the Rail Safety Improvement Act (RSIA) ¹ of 2008 required the Secretary of Transportation to identify the 10 States that had the most highway-rail grade crossing collisions, on average, over the previous three years and to require those States to develop State highway-rail grade crossing action plans within a reasonable period of time, as determined by the Secretary. Section 202 of the RSIA further provided that these plans must identify specific solutions for improving safety at crossings, including highway-rail grade crossing closures or grade separations, and must focus on crossings that have experienced multiple accidents or are at high risk for such accidents.

¹ Public Law 110-432, sec. 202 (Oct. 16, 2008).

In 2020, FRA issued a final rule titled, State Highway-Rail Grade Crossing Action Plans,² to implement section 11401(b) of the Fixing America's Surface Transportation Act (FAST Act) which required 40 States and the District of Columbia to develop and implement highway-rail grade crossing action plans. The final rule also required ten States that developed highway-rail grade crossing action plans, as required by RSIA and FRA's implementing regulation, to update their plans and submit reports to FRA describing actions they have taken to implement their plans.

² 85 FR 80648 (Dec. 14, 2020).

FRA uses the collection of information to ensure that States meet the Congressional mandate and devise and implement suitable plans to reduce/eliminate highway-rail grade collisions. FRA reviews these crossing action plans and crossing action plan revisions to ensure that these plans include the following: (1) identify specific strategies for improving safety at highway-rail grade crossings, including highway-rail grade crossing closures or grade separations; (2) focus on crossings that have experienced multiple accidents or are at high risk for such accidents; and (3) cover a five-year period.

In this 60-day notice, FRA makes no adjustments to the previously approved burden hours and responses in the Office of Information and Regulatory Affairs (OIRA) inventory.³

³ Changes to the total cost equivalent in U.S. dollars, a category not included in the OIRA inventory, are due to updated statistics from the 2022 Surface Transportation Board (STB) Full Year Wage A&B data series.

Type of Request: Extension without change of a currently approved collection.

Affected Public: Businesses.

Form(s): N/A.

Respondent Universe: 50 States + District of Columbia.

Frequency of Submission: On occasion.

Reporting Burden:

CFR section | Respondent universe | Total annual responses | Average time per response | Total annual burden hours | Total cost equivalent in U.S. dollar
|  | (A) | (B) | (C = A * B) | (D = C * wage rates) ⁴
234.11(b)—State highway-rail grade crossing action plans—Development and submission of new action plans—Grouped into high, medium, and low plans | 40 States + District of Columbia | 13.60 burden plans (1.3 high burden + 2.3 medium burden + 4 low burden + 6 minimal burden) | 1,510.00 hours (700 hours + 550 hours + 200 hours + 60 hours) | 3,376.67 | $290,157.25
—(c)(1) Updated action plans (10 listed states in § 234.11(e))—Grouped into high, medium, and low plans | 10 States | 3.30 burden plans (1 high burden + 1 medium burden + 1.3 low burden) | 1,965.00 hours (1,100 hours + 640 hours + 225 hours) | 2,040.00 | 175,297.20
—(c)(2) Implementation reports (10 listed states in § 234.11(e))—Grouped into high, medium, and low implementation reports | 10 States | 3.30 burden reports (1 high burden + 1 medium burden + 1.3 low burden) | 320.00 hours (160 hours + 120 hours + 40 hours) | 333.33 | 28,643.05
—(f)(2) Notification to FRA by State or District of Columbia (DC) of another official to assume responsibilities described under § 234.11(e)(6) | 50 States + District of Columbia | 2.70 notifications | 5.00 minutes | 0.22 | 18.90
—(g) FRA review and approval of State highway-rail grade crossing action plans: Disapproved plans needing revision—Grouped into high, medium, and low revised plans | 40 States + District of Columbia | 2.70 revised plans (0.7 high burden + 0.7 medium burden + 1.3 low burden) | 189.00 hours (105 hours + 60 hours + 24 hours) | 142.00 | 12,202.06
—(g) FRA review and approval of State highway-rail grade crossing action plans: Disapproved plans needing revision (10 listed States in § 234.11(e))—Grouped into high, medium, and low revised plans | 10 States | 0.90 revised plans (0.7 high burden + 0.7 medium burden + 1.3 low burden) | 295.00 hours (165 hours + 96 hours + 34 hours) | 98.33 | 8,449.50
Total ⁵ | N/A | 27 responses | N/A | 5,991 | 514,768.00

Total Estimated Annual Responses: 27.

⁴ The dollar equivalent cost is derived from the 2022 (STB) Full Year Wage A&B data series using employee group 200 (Professional & Administrative) hourly wage rate of $49.10. The total burden wage rate (straight time plus 75%) used in the table is $85.93 ($49.10 × 1.75 = $85.93).

⁵ Totals may not add up due to rounding.

Total Estimated Annual Burden: 5,991 hours.

Total Estimated Annual Burden Hour Dollar Cost Equivalent: $514,768.

FRA informs all interested parties that it may not conduct or sponsor, and a respondent is not required to respond to, a collection of information that does not display a currently valid OMB control number.

Authority: 44 U.S.C. 3501-3520.

Christopher S. Van Nostrand,
Acting Deputy Chief Counsel.

[FR Doc. 2024-01498 Filed 1-24-24; 8:45 am]

BILLING CODE 4910-06-P